DEPARTMENT OF HOUSING AND URBAN DEVELOPMENT

[Docket No. FR-4723-FA-23]

Announcement of Funding Awards for the Community Development Technical Assistance Programs; Fiscal Year 2002

AGENCY: Office of the Assistant Secretary for Community Planning and Development, HUD.

ACTION: Notice of funding awards.

SUMMARY: In accordance with section 102 (a)(4)(C) of the Department of Housing and Urban Development Reform Act of 1989, this announcement notifies the public of funding decisions made by the Department in a competition for funding under the Super Notice of Funding Availability (SuperNOFA) for the Community Development Technical Assistance Programs. This announcement contains the names of the awardees and the amounts of the awards made available by HUD.

FOR FURTHER INFORMATION CONTACT: Jean Whaley, Department of Housing and Urban Development, 451 7th Street, SW., Washington, DC 20410; telephone (202) 708-3176 extension 2774 (this is not a toll-free number). Hearing- and speech-impaired persons may access this number via TTY by calling the Federal Relay Service toll-free at 1-800-877-8339. For general information on this and other HUD programs, call Community Connections at 1-800-998-9999 or visit the HUD Web site at http://www.hud.gov.

SUPPLEMENTARY INFORMATION: The Fiscal Year 2002 Community Development Technical Assistance program is designed to increase the effectiveness of HUD's HOME Investment Partnerships Program (HOME), McKinney-Vento Homeless Assistance programs (Homeless), and Housing Opportunities for Persons with AIDS (HOPWA) through the selection of technical assistance (TA) providers for these three programs. The purposes of technical assistance under these three programs are as follows:

HOME Technical Assistance. To help HOME participating jurisdictions design and implement HOME programs, including improving their ability to design and implement housing strategies and incorporate energy efficiency into affordable housing; facilitating the exchange of information to help participating jurisdictions carry out their programs; facilitating the establishment and efficient operation of employer-assisted housing programs and land bank programs; and encouraging private lenders and for-profit developers of low-income housing to participate in public-private partnerships.

McKinney-Vento Act Homeless Assistance Programs Technical Assistance. To provide applicants, potential applicants, grantees, and project sponsors for McKinney-Vento Act funded Emergency Shelter Grants, Supportive Housing Program, Section 8 Moderate Rehabilitation Single Room Occupancy and Shelter Plus Care projects with technical assistance that promotes the development of housing and supportive services, as part of the Continuum of Care approach, to assist homeless persons in the transition from homelessness and to enable them to live as independently as possible.

HOPWA Technical Assistance. To train HOPWA grantees, project sponsors, and potential recipients of program funds in comprehensive housing strategies and responsive area programs that assist residents who are living with HIV/AIDS, and in the sound management of efficient and effective HOPWA programs. The grants also build the capacity of nonprofit organizations to carry out activities as HOPWA project sponsors.

The assistance made available in this announcement is authorized by the following:

The HOME Technical Assistance Program is authorized by the HOME Investment Partnerships Act (42 U.S.C. 12781-12783); 24 CFR part 92.

For the McKinney-Vento Act Homeless Assistance Programs Technical Assistance, the Supportive Housing Program is authorized under 42 U.S.C. 11381 et seq.; 24 CFR 583.140. The Emergency Shelter Grant, Section 8 Moderate Rehabilitation Single Room Occupancy Program, and Shelter Plus Care Technical Assistance Program are authorized under Pub. L. 107-73, Departments of Veterans Affairs and Housing and Urban Development and Independent Agencies Appropriations Act, 2002.

The HOPWA program is authorized under the AIDS Housing Opportunities Act (42 U.S.C. 12901) and the HOPWA regulations are found at 24 CFR part 574. The HOPWA Technical Assistance program is authorized under Pub. L. 107-73, Departments of Veterans Affairs and Housing and Urban Development and Independent Agencies Appropriations Act, 2002.

The competition was announced in the SuperNOFA published March 26, 2002 (67 FR 13893). Applications were rated and selected for funding on the basis of selection criteria contained in that Notice.

For the Fiscal Year 2002 competition, a total of $9,830,481 was awarded to 41 technical assistance providers nationwide. In accordance with section 102(a)(4)(C) of the Department of Housing and Urban Development Reform Act of 1989 (103 Stat. 1987, 42 U.S.C. 3545), the Department is publishing the grantees and amounts of the awards in Appendix A to this document.

Dated: May 12, 2003.
Roy A. Bernardi,
Assistant Secretary for Community, Planning and Development.

Appendix A.—Fiscal Year 2002 Funding Awards for Community Development Technical Assistance Programs
TA Provider | City | State | TA Award
HOME TA Awards
State of Alaska, Alaska Housing Finance Corporation | Anchorage | AK | $50,000.00
Rural Community Assistance Corporation | West Sacramento | CA | 142,100.00
Dennison Associates, Inc | Washington | DC | 329,670.00
National Affordable Housing Training Institute | Washington | DC | 500,000.00
Tonya, Inc | Washington | DC | 1,111,607.00
Florida Planning Group, Inc | Jacksonville | FL | 29,800.00
Chicago Rehab Network | Chicago | IL | 78,500.00
Abt Associates, Inc | Cambridge | MA | 45,000.00
The Enterprise Foundation | Columbia | MD | 105,966.00
Coastal Enterprises, Inc | Wiscasset | ME | 25,000.00
State of Michigan Dept. of Consumer & Industry Services | Lansing | MI | 119,800.00
Minnesota Housing Partnership | St. Paul | MN | 50,000.00
Training and Development Associates, Inc | Laurinburg | NC | 232,800.00
Supportive Housing Network of New York | New York | NY | 20,312.00
Ohio CDC Association | Columbus | OH | 67,130.00
Neighborhood Partnership Fund | Portland | OR | 30,300.00
Capital Access, Inc | Philadelphia | PA | 50,000.00
Puerto Rico Community Foundation | San Juan | PR | 61,400.00
Community Development Services | Maryville | TN | 20,000.00
ICF, Inc | Fairfax | VA | 1,759,677.00
Common Ground | Seattle | WA | 58,300.00
Northwest Regional Facilitators | Spokane | WA | 25,000.00
Urban Economic Development Association of Wisconsin, Inc | Milwaukee | WI | 40,932.00
Wisconsin Partnership for Housing Development, Inc | Madison | WI | 20,468.00
Homeless TA Awards
State of Alaska, Alaska Housing Finance Corporation | Anchorage | AL | 40,000.00
HomeBase/The Center for Common Concerns | San Francisco | CA | 142,000.00
Colorado Coalition for the Homeless | Denver | CO | 40,000.00
National Puerto Rican Coalition, Inc | Washington | DC | 12,000.00
Tonya, Inc | Washington | DC | 1,019,193.00
Florida Planning Group, Inc | Jacksonville | FL | 20,000.00
Iowa Coalition for Housing and the Homeless | Des Moines | IA | 20,676.00
Chicago Health Outreach | Chicago | IL | 46,922.00
Illinois Community Action Association | Springfield | IL | 30,000.00
Technical Assistance Collaborative, Inc | Boston | MA | 222,000.00
The Enterprise Foundation | Columbia | MD | 128,000.00
Minnesota Housing Partnership | St. Paul | MN | 52,000.00
Training and Development Associates, Inc | Laurinburg | NC | 119,928.00
New Mexico Coalition to End Homelessness | Santa Fe | NM | 40,000.00
Corporation for Supportive Housing | New York | NY | 218,000.00
Nassau Suffolk Coalition for the Homeless | Garden City | NY | 99,949.00
New York State Rural Housing Coalition, Inc | Albany | NY | 57,000.00
Supportive Housing Network of New York | New York | NY | 139,051.00
Coalition on Homelessness and Housing in Ohio | Columbus | OH | 104,000.00
Diana T. Myers and Associates, Inc | Glenside | PA | 57,000.00
Homeless Network of Texas dba Texas Homeless Network | Austin | TX | 128,000.00
AIDS Housing of Washington | Seattle | WA | 50,000.00
John Epler and Associates | Seattle | WA | 40,000.00
Low Income Housing Institute | Seattle | WA | 67,000.00
Urban Economic Development Association of Wisconsin, Inc | Milwaukee | WI | 54,000.00
HOPWA TA Awards
The Enterprise Foundation | Columbia | MD | $200,000.00
AIDS Housing of Washington | Seattle | WA | 1,750,000.00

[FR Doc. 03-12373 Filed 5-16-03; 8:45 am]

BILLING CODE 4210-29-P